DEPARTMENT OF AGRICULTURE

Office of the Secretary

7 CFR Part 2

RIN 0560-AH58

Revisions of Delegations of Authority

AGENCY: Office of the Secretary, Department of Agriculture (USDA).

ACTION: Final rule.

SUMMARY: This document amends the delegations of authority from the Secretary of Agriculture to the Under Secretary for Farm and Foreign Agricultural Services (FFAS) and to the Administrator, Farm Service Agency (FSA), to implement cooperative agreements for Conservation Programs carried out by FSA and to implement the Grassroots Source Water Protection Programs as authorized by section 1240O of the Food Security Act of 1985 (1985 Act).

DATES: This rule is effective August 30, 2006.

FOR FURTHER INFORMATION CONTACT: John H. Carter III, Program Manager, Conservation and Environmental Programs Division, Farm Service Agency, USDA/FSA/STOP 0513, 1400 Independence Avenue, SW., Washington, DC 20250-0513, (202) 720-8774.

SUPPLEMENTARY INFORMATION: Section 1240O of the 1985 Act, 16 U.S.C 3839bb-2, authorizes the Grassroots Source Water Protection Program. Fiscal Year 2006 funding for this program was appropriated to the Farm Service Agency of USDA; however, the authority to administer the program is delegated to another USDA agency. Therefore, the delegations of authority from the Secretary to the Under Secretary, FFAS, and from the Under Secretary, FFAS, to the Administrator, FSA, are revised to authorize those entities to implement the Grassroots Source Water Protection Program.

Consistent with FSA's authority to implement the Grassroots Source Water Protection Program, this rule also includes a delegation of authority to FSA to enter into cooperative agreements to improve that program's coordination and effectiveness in meeting the program's goals. This rule further delegates authority to FSA to enter into cooperative agreements for other conservation programs to improve the coordination and effectiveness of those programs.

This rule relates to internal agency management. Therefore, pursuant to 5 U.S.C. 553(a)(2), notice of proposed rulemaking and opportunity for comment are not required, and this rule may be made effective less than 30 days after publication in the Federal Register. Further, because this rule relates to internal agency management, it is exempt from the provisions of Executive Order Nos. 12291 and 12866. Finally, this action is not a rule as defined by the Regulatory Flexibility Act, 5 U.S.C. 601 et seq., and is, therefore, exempt from the provisions of that Act. Accordingly, as authorized by section 808 of the Small Business Regulatory Enforcement Fairness Act of 1996, 5 U.S.C. 808, this rule may be made effective upon publication.

List of Subjects in 7 CFR Part 2

Administrative practice and procedure, Authority delegations (Government agencies).

Accordingly, Title 7 of the Code of Federal Regulations is amended as follows:

PART 2—DELEGATIONS OF AUTHORITY BY THE SECRETARY OF AGRICULTURE AND GENERAL OFFICES OF THE DEPARTMENT

1. The authority citation for 7 CFR part 2 continues to read as follows:

Authority: 7 U.S.C. 6912(a)(1); 5 U.S.C. 301; Reorganization Plan No. 2 of 1953, 3 CFR parts 1949-1953 Comp., p. 1024.

Subpart C—Delegations of Authority to the Deputy Secretary and to the Under Secretaries and Assistant Secretaries

2. Section 2.16 is amended by adding paragraphs (a)(1)(xxvii) and (xxviii) to read as follows:

§ 2.16 Under Secretary for Farm and Foreign Agricultural Services.

(a) * * *

(1) * * *

(xxvii) Formulate and carry out the Grassroots Source Water Protection Program authorized by the Food Security Act of 1985, as amended (16 U.S.C. 3839bb-2).

(xxviii) Administer cooperative agreements authorized under 7 U.S.C. 2204b(b)(4) with respect to conservation programs.

* * * * *

Subpart F—Delegations of Authority by the Under Secretary for Farm and Foreign Agricultural Services

3. Section 2.42 is amended by adding paragraphs (a)(49) and (50) to read as follows:

§ 2.42 Administrator, Farm Service Agency.

(a) * * *

(49) Formulate and carry out the Grassroots Source Water Protection Program, authorized by the Food Security Act of 1985, as amended (16 U.S.C. 3839bb-2).

(50) Administer cooperative agreements under 7 U.S.C. 2204b(b)(4) with respect to conservation programs.

* * * * *

For Part 2, Subpart C, Paragraph 2.16(a)(1):
Dated: August 23, 2006.
Mike Johanns,
Secretary of Agriculture.
For Part 2, Subpart C, Paragraph 2.42(a):
Dated: August 18, 2006.
J.B. Penn,
Under Secretary for Farm and Foreign Agricultural Services.

[FR Doc. E6-14365 Filed 8-29-06; 8:45 am]

BILLING CODE 3410-01-P